DEPARTMENT OF TRANSPORTATION

Federal Aviation Administration

14 CFR Part 39

[Docket No. 95-SW-30-AD]

RIN 2120-AA64

Airworthiness Directives; Robinson Helicopter Company Model R44 Helicopters

AGENCY: Federal Aviation Administration, DOT.

ACTION: Notice of proposed rulemaking (NPRM); rescission.

SUMMARY: This amendment proposes rescinding an existing Airworthiness Directive (AD) for Robinson Helicopter Company (Robinson) Model R44 helicopters. That AD currently requires revisions to the R44 Rotorcraft Flight Manual (RFM). The revisions limit operations in high winds and turbulence; provide information about main rotor (M/R) stall and mast bumping, recommendations for avoiding these situations, and additional emergency procedures for use in certain conditions. This action would rescind all the requirements of AD 95-26-05, Amendment 39-9463, Docket 95-SW-30-AD. This proposal is prompted by the FAA's determination that the limitations and the procedures required by that AD are no longer necessary to correct an unsafe condition.

DATES: Comments must be received on or before May 25, 2004.

ADDRESSES: Submit comments in triplicate to the Federal Aviation Administration (FAA) Office of the Regional Counsel, Southwest Region, Attention: Rules Docket No. 95-SW-30-AD, 2601 Meacham Blvd., Room 663, Fort Worth, Texas 76137. Comments may be inspected at this location between 9 a.m. and 3 p.m., Monday through Friday, except Federal holidays. You may also send comments electronically to the Rules Docket at the following address: 9-asw-adcomments@faa.gov.

FOR FURTHER INFORMATION CONTACT: Gordon Acker, FAA, Los Angeles Aircraft Certification Office, Flight Test Branch, 3960 Paramount Blvd., Lakewood, California 90712-4137, telephone (562) 627-5374, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 95-SW-30-AD.” The postcard will be date stamped and returned to the commenter.

Discussion

On December 11, 1995, the FAA issued AD 95-26-05, Amendment 39-9463, Docket No. 95-SW-30-AD (60 FR 66488, December 22, 1995), for Robinson Model R44 helicopters. AD 95-26-05 superseded AD 95-04-13, Amendment 39-9165, Docket No. 95-SW-12-AD, issued February 23, 1995 (60 FR 11611, March 2, 1995). AD 95-04-13 superseded Priority Letter AD 95-02-04, Docket No. 95-SW-08-AD, issued January 12, 1995. AD 95-26-05 requires revisions to the Limitations, the Normal Procedures, and the Emergency Procedures sections of the R44 RFM. These revisions limit operations in certain winds and turbulence; provide information about M/R stall and mast bumping; and provide recommendations for avoiding these situations. Additionally, emergency procedures are provided for use should certain conditions be encountered. AD 95-26-05 reduces the limitations required by the superseded ADs for pilots who have the flight experience specified in AD 95-26-05 and who have completed the SFAR No. 73 training.

Actions Since Issuing Previous AD

Since issuing AD 95-26-05, an FAA Technical Panel (TP) met on April 30, 1996, and recommended that AD 95-26-05 be rescinded. Recommendation Number 1 in the TP Executive Summary states: “Rescind AD 95-26-05 (restricting operations of the R44 in high wind and turbulence) based upon the results of the R44 Rotor Decay and Blade Flapping Survey conducted in July and August 1995 and the pilot workload reduction afforded by mandatory in-flight use of the throttle governor in all R44 helicopters.” AD 96-11-09, Amendment 39-9634, Docket No. 95-SW-32-AD issued May 15, 1996 (61 FR 26427, May 28, 1996), prohibits flight with the governor “off” except for in-flight system malfunctions or emergency procedures training. The TP recommended rescission has been pending for over 7 years. No additional incidents or accidents have occurred that are due to M/R stall or mast bumping at abnormally low M/R revolutions-per-minute, flight in high winds, or flight in turbulence that indicate that the limitations imposed by AD 95-26-05 are still needed.

FAA's Conclusions

After reviewing the available data, the FAA has determined that it is appropriate to rescind AD 95-26-05 to eliminate unnecessary limitations and procedures. The limitations and procedures imposed by that AD are no longer needed to correct an unsafe condition.

This proposed action would rescind AD 95-26-05. Rescission of AD 95-26-05 would constitute only such action and if followed by a final action would not preclude the agency from issuing another action in the future nor would it commit the agency to any course of action in the future.

Cost Impact

The FAA estimates that 515 helicopters of U.S. registry are affected by AD 95-26-05 and that it would take approximately ½ work hour per helicopter to accomplish the actions at an average labor rate of $65 per work hour. Based on these figures, the total cost impact of the AD on U.S. operators is estimated to be $16,738. However, adopting this proposed rescission would eliminate those costs.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the economic evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding an AD removing Amendment 39-9463 to read as follows:

Robinson Helicopter Company: Docket No. 95-SW-30-AD. Rescinds AD 95-26-05, Amendment 39-9463.

Applicability: Model R44 helicopters, certificated in any category.

Issued in Fort Worth, Texas, on March 10, 2004.
Scott A. Horn,
Acting Manager, Rotorcraft Directorate, Aircraft Certification Service.

[FR Doc. 04-6779 Filed 3-25-04; 8:45 am]

BILLING CODE 4910-13-P